DEPARTMENT OF TRANSPORTATION

Federal Motor Carrier Safety Administration

[Docket No. FMCSA-2011-0098]

The Federal Motor Carrier Safety Administration's 2011-2016 Strategic Plan: Raising the Safety Bar

AGENCY: Federal Motor Carrier Safety Administration (FMCSA), DOT.

ACTION: Notice of draft strategic plan and request for comments.

SUMMARY: The FMCSA requests public comment on its draft strategic plan, Federal Motor Carrier Safety Administration 2011-2016 Strategic Plan: Raising the Safety Bar. This is FMCSA's second strategic plan since the Agency was established as a standalone administration within the Department of Transportation (DOT) in 2000. In keeping with DOT's and FMCSA's top priority safety, the draft strategic plan is shaped by three core principles: (1) Raise the bar to enter the motor carrier industry; (2) Maintain high safety standards to remain in the industry; and (3) Remove high-risk carriers, drivers and service providers from operation. The Agency's new 5-year Strategic Plan provides continuing direction for FMCSA to further reduce crashes, injuries, and fatalities related to commercial motor vehicles (CMVs), which include passenger carrier vehicles (e.g., buses). We welcome and invite comments and feedback on FMCSA's future direction. Comments will be considered and incorporated as appropriate.

Comment Date: Comments are due July 29, 2011.

ADDRESSES: Your comments must be addressed to FDMS Docket ID No. FMCSA-2011-0098, and sent by any of the following methods:

• Federal eRulemaking Portal: the Federal Docket Management System (FDMS) address: http://www.regulations.gov.

• Fax: 202-493-2251.

• Mail: Docket Management Facility (M-30), U.S. Department of Transportation, West Building Ground Floor, Room W12-140, 1200 New Jersey Avenue, SE., Washington, DC 20590-0001.

• Hand Delivery: West Building Ground Floor, Room W12-140, 1200 New Jersey Avenue, SE., Washington, DC 20590, between 9 a.m. and 5 p.m., E.T., Monday through Friday, except Federal holidays. The telephone number is 202-366-9329.

Instructions: All submissions must include the Agency name and docket number (FMCSA-2011-0098) for this rulemaking. To avoid duplication, please use only one of these four methods. Note that all comments received will be posted without change to http://www.regulations.gov, including any personal information provided. Please refer to the Privacy Act heading for further information.

Comments received after the comment closing date will be considered and incorporated as appropriate. For questions, see “FOR FURTHER INFORMATION CONTACT” below.

Docket: For access to the docket to read background documents or comments received, go to http://www.regulations.gov at any time or to West Building Ground Floor, Room W12-140, 1200 New Jersey Avenue, SE., Washington, DC, between 9 a.m. and 5 p.m., E.T., Monday through Friday, except Federal holidays.

Privacy Act: Anyone may search the electronic form of all comments received into any of our dockets by the name of the individual submitting the comment (or signing the comment, if submitted on behalf of an association, business, labor union, etc.). You may review DOT's complete Privacy Act Statement in the Federal Register notice published on January 17, 2008 (73 FR 3316) at http://edocket.access.gpo.gov/2008/pdf/E8-785.pdf.

FOR FURTHER INFORMATION CONTACT: Ms. Dee Williams, Chief, Strategic Planning and Program Evaluation Division, telephone (202) 493-0192, or e-mail dee.williams@dot.gov.

SUPPLEMENTARY INFORMATION:

Background

FMCSA was established as a separate administration within the United States Department of Transportation (DOT) on January 1, 2000, pursuant to the Motor Carrier Safety Improvement Act of 1999 (Pub. L. 106-159), with the safety mandate to reduce crashes, injuries, and fatalities involving commercial motor vehicles (CMVs).

FMCSA hosted a listening session to solicit input for the development of its new draft Plan. Participants were asked to provide input on key challenges facing the motor carrier industry, issues facing stakeholders, and concerns that should be considered by the Agency in developing its next 5-year Strategic Plan. The meeting was held on September 8, 2010 (75 FR 53015, August 30, 2010).

The new draft strategic plan, The Federal Motor Carrier Safety Administration 2011-2016 Strategic Plan: Raising the Safety Bar, is the Agency's second since its inception. The plan establishes a new strategic framework for how FMCSA will continue to carry out its mission, top priority, and mandate—Safety—and places a greater emphasis on the overall CMV transportation life-cycle.

The CMV transportation life-cycle concept encompasses the whole CMV transportation system, including all the entities that control or influence the operation of CMVs, and focuses on the specific responsibilities of each party involved in the transport and logistics supply chain in improving CMV safety factors. This is a holistic view of safety that includes factors such as CMV and passenger-vehicle driver behavior, compliance systems, quality of roads, and vehicle technologies. This life-cycle approach will directly address CMV transportation challenges affecting drivers, vehicles, infrastructure, and the management of operations. Individuals, organizations, agencies, and other entities that are part of the CMV transportation life-cycle need to be aware of their impact on CMV safety and take responsibility for that impact.

The Agency's goals and strategies developed under its new five-year Plan are grouped into four strategic focus areas:

CMV Safety 1st Culture: Deliver comprehensive safety programs and promote operating standards focused on fostering safety as the highest priority within the CMV transportation life-cycle. Recognize that, while safety is FMCSA's highest priority, the Agency must also foster other important societal goals within the CMV transportation industry, including security, hazmat safety, consumer protection, and other DOT objectives.

Exponential Safety Power (SafetyX Power): Establish new partnerships and develop policies and programs promoting opportunities to collaborate with all stakeholders on CMV safety interventions. Build a coordinated network of safety partners and stakeholders to advance a common safety agenda.

Using Comprehensive Data & Leveraging Technology: Improve standards and systems to identify, collect, evaluate, and disseminate real-time performance data to all employees, customers, partners and stakeholders. Leverage research and emerging technologies to positively impact CMV transportation safety.

One FMCSA: Improve the strategic management of programs and human capital within FMCSA to build and sustain a diverse workforce and to develop innovative solutions to the CMV transportation challenges of today and tomorrow.

Request for Comments

FMCSA requests comments on its draft strategic plan, The Federal Motor Carrier Safety Administration 2011-2016 Strategic Plan: Raising the Safety Bar, which has been placed in the docket referenced at the beginning of this notice and is also available on the Agency's Web site at http://www.fmcsa.dot.gov/rules-regulations; click on “Notices.” The Agency will consider all comments received by close of business on July 29, 2011. Comments will be available for examination in the docket at the location listed under the “ADDRESSES” section of this notice. The Agency will consider to the extent practicable comments received in the public docket after the closing date of the comment period.

FMCSA IdeaScale Community

In addition to the Federal Register notice for public comment, FMCSA has set up an IdeaScale Community on its main Web site at http://www.fmcsa.dot.gov. IdeaScale is a Department of Transportation initiative providing an interactive, on-line, transparent space for people to engage in conversation about draft proposals and vote if they agree or disagree, which also allows FMCSA to ask clarifying questions to make sure the best comments/ideas are considered.

June 23, 2011.
Anne S. Ferro,
Administrator.

[FR Doc. 2011-16274 Filed 6-28-11; 8:45 am]

BILLING CODE 4910-EX-P